DEPARTMENT OF HEALTH AND HUMAN SERVICES

National Institutes of Health

Eunice Kennedy Shriver National Institute of Child Health & Human Development; Notice of Meeting

Pursuant to section 1009 of the Federal Advisory Committee Act, as amended, notice is hereby given of a meeting of the National Advisory Child Health and Human Development Council.

The meeting will be open to the public as indicated below, with attendance limited to space available. Individuals who plan to attend and need special assistance, such as sign language interpretation or other reasonable accommodations, should notify the Contact Person listed below in advance of the meeting. The meeting can be accessed from the NIH Videocast at the following link: https://videocast.nih.gov/.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Child Health and Human Development Council.

Date: July 8, 2026.

Open: 9:00 a.m. to 2:00 p.m.

Agenda: NICHD Director's Report; NIH Strategic Plan for Disability Health Research; Voice of the trainee; Presentation; Concept Clearance; Council Statement of Understanding.

Address: Eunice Kennedy Shriver National Institute of Child Health and Human Development, National Institutes of Health, 6710 B Rockledge Drive, Bethesda, MD 20817.

Meeting Format: In-person.

Closed: 2:00 p.m. to 5:00 p.m.

Agenda: Review of Applications, Closing remarks; Adjournment.

Address: Eunice Kennedy Shriver National Institute of Child Health and Human Development, National Institutes of Health, 6710 B Rockledge Drive, Bethesda, MD 20817.

Meeting Format: In-person.

Contact Person: Rebekah S. Rasooly, Ph.D., Eunice Kennedy Shriver National Institute of Child Health and Human Development, National Institutes of Health, 6710B Rockledge Drive, Bethesda, MD 20817, Phone: 301-827-2599, Email: Rebekah.rasooly@nih.gov.

Registration is not required to attend the open portion of this meeting.

Any interested person may file written comments with the committee by forwarding the statement to the Contact Person listed on this notice. The statement should include the name, address, telephone number and when applicable, the business or professional affiliation of the interested person.

Information is also available on the Institute's/Center's home page: https://www.nichd.nih.gov/about/advisory/council, where an agenda and any additional information for the meeting will be posted when available.

(Catalogue of Federal Domestic Assistance Program No. 93.242, Mental Health Research Grants, National Institutes of Health, HHS)

Dated: February 6, 2026.
Margaret N. Vardanian,
Program Analyst, Office of Federal Advisory Committee Policy.

[FR Doc. 2026-02671 Filed 2-10-26; 8:45 am]

BILLING CODE 4140-01-P